DEPARTMENT OF TRANSPORTATION

Federal Aviation Administration

14 CFR Part 97

[Docket No. 30678; Amdt. No. 3332]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective August 13, 2009. The compliance date for each SIAP, associated Takeoff Minimums, and ODP is specified in the amendatory provisions.

The incorporation by reference of certain publications listed in the regulations is approved by the Director of the Federal Register as of August 13, 2009.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule ” under DOT Regulatory Policies and Procedures (44 FR 11034; February 26, 1979) ; and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on July 24, 2009.
John M. Allen,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 27 AUG 2009

Manokotak, AK, Manokotak, RNAV (GPS) RWY 3, Orig

Manokotak, AK, Manokotak, RNAV (GPS) RWY 21, Orig

Manokotak, AK, Manokotak, RNAV (GPS)-A, CANCELLED

Manokotak, AK, Manokotak, Takeoff Minimums and Obstacle DP, Amdt 1

Yakutat, AK, Yakutat, ILS OR LOC/DME RWY 11, Amdt 1

Yakutat, AK, Yakutat, RNAV (GPS) RWY 2, Amdt 1

Yakutat, AK, Yakutat, RNAV (GPS) RWY 11, Amdt 2

Scottsdale, AZ, Scottsdale, RNAV (RNP) Y RWY 3, Orig-A

Eureka, CA, Murray Field, GPS RWY 11, Orig-B, CANCELLED

Eureka, CA, Murray Field, RNAV (GPS) RWY 12, Orig

Eureka, CA, Murray Field, RNAV (GPS)-B, Orig

Eureka, CA, Murray Field, Takeoff Minimums and Obstacle DP, Amdt 4

Eureka, CA, Murray Field, VOR-A, Amdt 7

Lakeport, CA, Lampson Field, NDB OR GPS-A, Orig-A, CANCELLED

Lakeport, CA, Lampson Field, RNAV (GPS)-A, Orig

Marysville, CA, Yuba County, GPS RWY 14, Orig-A, CANCELLED

Marysville, CA, Yuba County, GPS RWY 32, Orig-A, CANCELLED

Marysville, CA, Yuba County, RNAV (GPS) RWY 14, Orig

Marysville, CA, Yuba County, RNAV (GPS) RWY 32, Orig

Napa, CA, Napa County, RNAV (GPS) Y RWY 36L, Amdt 1

Napa, CA, Napa County, RNAV (GPS) Z RWY 36L, Orig

Redding, CA, Redding Muni, ILS OR LOC/DME RWY 34, Amdt 11

Redding, CA, Redding Muni, LOC/DME BC RWY 16, Amdt 7

Redding, CA, Redding Muni, RNAV (GPS) RWY 34, Amdt 1

Salinas, CA, Salinas Muni, GPS RWY 13, Orig, CANCELLED

Salinas, CA, Salinas Muni, GPS RWY 31, Orig, CANCELLED

Salinas, CA, Salinas Muni, RNAV (GPS) RWY 13, Orig

Salinas, CA, Salinas Muni, RNAV (GPS) Y RWY 31, Orig

Salinas, CA, Salinas Muni, RNAV (GPS) Z RWY 31, Orig

Santa Ana, CA, John Wayne-Orange County, Takeoff Minimums and Obstacle DP, Amdt 5

Visalia, CA, Visalia Muni, GPS RWY 12, Orig-B, CANCELLED

Visalia, CA, Visalia Muni, GPS RWY 30, Orig-A, CANCELLED

Visalia, CA, Visalia Muni, ILS OR LOC/DME RWY 30, Amdt 6

Visalia, CA, Visalia Muni, RNAV (GPS) RWY 12, Orig

Visalia, CA, Visalia Muni, RNAV (GPS) RWY 30, Orig

Visalia, CA, Visalia Muni, Takeoff Minimums and Obstacle DP, Amdt 3

Lamar, CO, Lamar Muni, RNAV (GPS) RWY 18, Amdt 1

Daytona Beach, FL, Daytona Beach Intl, Takeoff Minimums and Obstacle DP, Amdt 4

Stuart, FL, Witham Field, Takeoff Minimums and Obstacle DP, Amdt 2

Albany, GA, Southwest Georgia Rgnl, ILS OR LOC RWY 4, Amdt 11

Albany, GA, Southwest Georgia Rgnl, LOC BC RWY 22, Amdt 8

Albany, GA, Southwest Georgia Rgnl, NDB RWY 4, Amdt 13

Albany, GA, Southwest Georgia Rgnl, RNAV (GPS) RWY 4, Amdt 1

Albany, GA, Southwest Georgia Rgnl, RNAV (GPS) RWY 16, Amdt 1

Albany, GA, Southwest Georgia Rgnl, RNAV (GPS) RWY 22, Amdt 1

Albany, GA, Southwest Georgia Rgnl, RNAV (GPS) RWY 34, Amdt 1

Albany, GA, Southwest Georgia Rgnl, VOR OR TACAN RWY 16, Amdt 27

Donalsonville, GA, Donalsonville, Takeoff Minimums and Obstacle DP, Orig

Lanai City, HI, Lanai, RNAV (GPS) RWY 3, Orig

Lanai City, HI, Lanai, Takeoff Minimums and Obstacle DP, Amdt 5

Lanai City, HI, Lanai, VOR OR TACAN RWY 3, Amdt 7

Coeur D' Alene, ID, Coeur D'Alene-Pappy Boyington Field, NDB RWY 5, Amdt 2B

Twin Falls, ID, Joslin Field-Magic Valley Rgnl, NDB RWY 25, Amdt 6A

Westminster, MD, Clearview Airpark, Takeoff Minimums and Obstacle DP, Orig

Lansing, MI, Capital City, ILS OR LOC RWY 28L, Amdt 26

Lansing, MI, Capital City, NDB OR GPS RWY 28L, Amdt 24A, CANCELLED

Lansing, MI, Capital City, RADAR-1, Amdt 15

Lansing, MI, Capital City, RNAV (GPS) RWY 10R, Orig

Lansing, MI, Capital City, RNAV (GPS) RWY 24, Orig

Lansing, MI, Capital City, RNAV (GPS) RWY 28L, Orig

Lansing, MI, Capital City, VOR RWY 24, Amdt 9

Pellston, MI, Pellston Rgnl Arpt Of Emmet County, ILS OR LOC RWY 32, Amdt 11

Pellston, MI, Pellston Rgnl Arpt Of Emmet County, RNAV (GPS) RWY 5, Orig

Pellston, MI, Pellston Rgnl Arpt Of Emmet County, RNAV (GPS) RWY 23, Orig

Pellston, MI, Pellston Rgnl Arpt Of Emmet County, RNAV (GPS) RWY 32, Orig

Pellston, MI, Pellston Rgnl Arpt Of Emmet County, VOR RWY 23, Amdt 16

Pellston, MI, Pellston Rgnl Arpt Of Emmet County, VOR/DME RWY 5, Amdt 12

Fergus Falls, MN, Fergus Falls Muni-Einar Mickelson Field, ILS OR LOC RWY 31, Amdt 2

Fergus Falls, MN, Fergus Falls Muni-Einar Mickelson Field, NDB RWY 31, Amdt 2

Fergus Falls, MN, Fergus Falls Muni-Einar Mickelson Field, RNAV (GPS) RWY 31, Orig

Fergus Falls, MN, Fergus Falls Muni-Einar Mickelson Field, RNAV (GPS) RWY 35, Orig

Fergus Falls, MN, Fergus Falls Muni-Einar Mickelson Field, Takeoff Minimums and Obstacle DP, Orig

Fergus Falls, MN, Fergus Falls Muni-Einar Mickelson Field, VOR RWY 13, Amdt 1

Fergus Falls, MN, Fergus Falls Muni-Einar Mickelson Field, VOR RWY 35, Amdt 10

Ahoskie, NC, Tri-County, NDB RWY 1, Amdt 2, CANCELLED

Raleigh/Durham, NC, Raleigh-Durham Intl, ILS OR LOC RWY 5L, Amdt 5

Raleigh/Durham, NC, Raleigh-Durham Intl, ILS OR LOC RWY 5R, Amdt 27

Raleigh/Durham, NC, Raleigh-Durham Intl, ILS OR LOC RWY 23L, Amdt 8

Raleigh/Durham, NC, Raleigh-Durham Intl, ILS OR LOC RWY 23R, ILS RWY 23R (CAT II),

ILS RWY 23R (CAT III), Amdt 11

Raleigh/Durham, NC, Raleigh-Durham Intl, RNAV (GPS) Y RWY 5L, Amdt 1

Raleigh/Durham, NC, Raleigh-Durham Intl, RNAV (GPS) Y RWY 5R, Amdt 1

Raleigh/Durham, NC, Raleigh-Durham Intl, RNAV (GPS) Y RWY 23L, Amdt 1

Raleigh/Durham, NC, Raleigh-Durham Intl, RNAV (GPS) Y RWY 23R, Amdt 1

Raleigh/Durham, NC, Raleigh-Durham Intl, RNAV (RNP) Z RWY 5L, Orig

Raleigh/Durham, NC, Raleigh-Durham Intl, RNAV (RNP) Z RWY 5R, Orig

Raleigh/Durham, NC, Raleigh-Durham Intl, RNAV (RNP) Z RWY 23L, Orig

Raleigh/Durham, NC, Raleigh-Durham Intl, RNAV (RNP) Z RWY 23R, Orig

Las Vegas, NV, McCarran Intl, VOR RWY 25L/R, Amdt 3

Dayton, OH, James M Cox Dayton Intl, ILS OR LOC RWY 6L, ILS RWY 6L (CAT II), ILS RWY 6L (CAT III), Amdt 9

Dayton, OH, James M Cox Dayton Intl, ILS OR LOC RWY 18, Amdt 10

Dayton, OH, James M Cox Dayton Intl, ILS OR LOC RWY 24L, Amdt 9

Dayton, OH, James M Cox Dayton Intl, ILS OR LOC RWY 24R, Amdt 8

Dayton, OH, James M Cox Dayton Intl, NDB RWY 6R, Amdt 9

Dayton, OH, James M Cox Dayton Intl, RNAV (GPS) RWY 6L, Amdt 1

Dayton, OH, James M Cox Dayton Intl, RNAV (GPS) RWY 6R, Amdt 1

Dayton, OH, James M Cox Dayton Intl, RNAV (GPS) RWY 18, Amdt 1

Dayton, OH, James M Cox Dayton Intl, RNAV (GPS) RWY 24L, Amdt 1

Dayton, OH, James M Cox Dayton Intl, RNAV (GPS) RWY 24R, Amdt 1

Dayton, OH, James M Cox Dayton Intl, RNAV (GPS) RWY 36, Amdt 1

Redmond, OR, Roberts Field, GPS RWY 10, Orig-A, CANCELLED

Redmond, OR, Roberts Field, RNAV (GPS) RWY 4, Orig

Redmond, OR, Roberts Field, RNAV (GPS) RWY 10, Orig

Redmond, OR, Roberts Field, RNAV (GPS) RWY 22, Orig

Redmond, OR, Roberts Field, RNAV (GPS) Y RWY 28, Amdt 1

Redmond, OR, Roberts Field, RNAV (GPS) Z RWY 28, Orig

Johnstown, PA, John Murtha Johnstown-Cambria County, ILS OR LOC RWY 33, Amdt 6

Johnstown, PA, John Murtha Johnstown-Cambria County, RNAV (GPS) RWY 5, Amdt 1

Johnstown, PA, John Murtha Johnstown-Cambria County, RNAV (GPS) RWY 15, Amdt 1

Johnstown, PA, John Murtha Johnstown-Cambria County, RNAV (GPS) RWY 23, Amdt 1

Johnstown, PA, John Murtha Johnstown-Cambria County, RNAV (GPS) RWY 33, Amdt 1

Johnstown, PA, John Murtha Johnstown-Cambria County, VOR RWY 23, Amdt 8

Johnstown, PA, John Murtha Johnstown-Cambria County, VOR/DME RWY 23, Amdt 2

Reading PA, Reading Rgnl/Carl A. Spaatz Fld, NDB RWY 36, Amdt 25

San Juan, PR, Luis Munoz Marin Intl, Takeoff Minimums and Obstacle DP, Amdt 7

Aberdeen, SD, Aberdeen Rgnl, Takeoff Minimums and Obstacle DP, Orig

Nashville, TN, Nashville Intl, ILS OR LOC RWY 2C, Amdt 1

Nashville, TN, Nashville Intl, ILS OR LOC RWY 2L, ILS RWY 2L (CAT II), ILS RWY 2L (CAT III), Amdt 9

Nashville, TN, Nashville Intl, ILS OR LOC RWY 2R, ILS RWY 2R (CAT II), ILS RWY 2R (CAT III), Amdt 7

Nashville, TN, Nashville Intl, ILS OR LOC RWY 20L, Amdt 5

Nashville, TN, Nashville Intl, ILS OR LOC RWY 20R, Amdt 10

Nashville, TN, Nashville Intl, ILS OR LOC RWY 31, Amdt 9

Nashville, TN, Nashville Intl, RNAV (GPS) RWY 13, Amdt 1

Nashville, TN, Nashville Intl, RNAV (GPS) Y RWY 2C, Amdt 1

Nashville, TN, Nashville Intl, RNAV (GPS) Y RWY 2L, Amdt 1

Nashville, TN, Nashville Intl, RNAV (GPS) Y RWY 2R, Amdt 1

Nashville, TN, Nashville Intl, RNAV (GPS) Y RWY 20L, Amdt 1

Nashville, TN, Nashville Intl, RNAV (GPS) Y RWY 20R, Amdt 2

Nashville, TN, Nashville Intl, RNAV (GPS) Y RWY 31, Amdt 1

Nashville, TN, Nashville Intl, RNAV (RNP) Z RWY 2C, Orig

Nashville, TN, Nashville Intl, RNAV (RNP) Z RWY 2L, Orig

Nashville, TN, Nashville Intl, RNAV (RNP) Z RWY 2R, Orig

Nashville, TN, Nashville Intl, RNAV (RNP) Z RWY 20L, Orig

Nashville, TN, Nashville Intl, RNAV (RNP) Z RWY 20R, Orig

Nashville, TN, Nashville Intl, RNAV (RNP) Z RWY 31, Orig

Jasper, TX, Jasper County-Bell Field, GPS RWY 18, Amdt 1, CANCELLED

Jasper, TX, Jasper County-Bell Field, GPS RWY 36, Orig, CANCELLED

Jasper, TX, Jasper County-Bell Field, NDB RWY 18, Amdt 10

Jasper, TX, Jasper County-Bell Field, RNAV (GPS) RWY 18, Orig

Jasper, TX, Jasper County-Bell Field, RNAV (GPS) RWY 36, Orig

Jasper, TX, Jasper County-Bell Field, Takeoff Minimums and Obstacle DP, Orig

Abingdon, VA, Virginia Highlands, LOC RWY 24, Amdt 3

Abingdon, VA, Virginia Highlands, RNAV (GPS) RWY 6, Orig

Abingdon, VA, Virginia Highlands, RNAV (GPS) RWY 24, Orig

Abingdon, VA, Virginia Highlands, VOR/DME-B, Amdt 6

Hot Springs, VA, Ingalls Fld, GPS RWY 7, Orig-A, CANCELLED

Hot Springs, VA, Ingalls Fld, ILS OR LOC RWY 25, Amdt 4

Hot Springs, VA, Ingalls Fld, RNAV (GPS) RWY 7, Orig

South Boston, VA, William M. Tuck, GPS RWY 1, Orig, CANCELLED

South Boston, VA, William M. Tuck, RNAV (GPS) RWY 1, Orig

South Boston, VA, William M. Tuck, RNAV (GPS) RWY 19, Orig

South Boston, VA, William M. Tuck, VOR-A, Amdt 8

Beckley, WV, Raleigh County Memorial, VOR RWY 19, Amdt 4

Parkersburg, WV, Mid-Ohio Valley Rgnl, ILS OR LOC RWY 3, Amdt 13

[FR Doc. E9-18660 Filed 8-12-09; 8:45 am]

BILLING CODE 4910-13-P